DEPARTMENT OF TRANSPORTATION

Federal Railroad Administration

[Docket Number FRA-2024-0101]

Petition for Waiver of Compliance

Under part 211 of title 49 Code of Federal Regulations (CFR), this document provides the public notice that by letter dated September 3, 2024, the Kentucky & Tennessee Railway (K&T), in conjunction with the McCreary County Heritage Foundation, petitioned the Federal Railroad Administration (FRA) for a special approval pursuant to 49 CFR part 215 (Railroad Freight Car Safety Standards), and a waiver of compliance from 49 CFR part 215. FRA assigned the petition Docket Number FRA-2024-0101.

Specifically, K&T requests a special approval pursuant to § 215.203, Restricted cars, for 6 flatcars (KT 1701, KT 1703, KT 1004, KT 1005, KT 1006, and KT 1007) and 1 caboose (KT 1) that are more than 50 years from the dates of original construction. K&T also seeks relief from § 215.303, Stenciling of restricted cars, on all equipment. The equipment is used in tourist/excursion service, and the flatcars have been converted to carry passengers. K&T stated that the caboose does not carry passengers and is used as “the technical car” in the Polar Express event.

In its petition, K&T stated that the equipment will be operated on 6.5 miles of track on K&T and Big South Fork Scenic Railway. K&T added that in 2023, it handled more than 30,000 passengers and that the equipment is “vital to the ongoing mission of the [McCreary County] Heritage Foundation, which is to educate guests through interpretation of the area's rich history of coal, timber, and railroading.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by December 23, 2024 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-24458 Filed 10-21-24; 8:45 am]

BILLING CODE 4910-06-P